DEPARTMENT OF THE INTERIOR

Bureau of Indian Affairs

List of Allottees or Heirs Determined To Receive Monetary Compensation Under the White Earth Reservation Land Settlement Act of 1985, as Amended

AGENCY: Bureau of Indian Affairs, Interior.

ACTION: Notice.

SUMMARY: Pursuant to Section 8(c) of the White Earth Land Settlement Act of 1985 (the Act), Public Law 99-264 (100 Stat. 61), as amended this notice lists individuals whose whereabouts are unknown. Therefore as described in the Act undeliverable monetary compensation payments which have been determined to fall within the scope of sections 4(a), 4(b), or 5(c) of the Act are being published.

FOR FURTHER INFORMATION CONTACT: Patricia L. Olby, Superintendent, Minnesota Agency, Bureau of Indian Affairs, 522 Minnesota Ave., Bemidji, Minnesota 56601, Telephone (218) 751-2011.

SUPPLEMENTARY INFORMATION: The White Earth Reservation Land Settlement Act of 1985, Public Law 99-264 (100 Stat. 61) as amended by Public Law 100-153 (101 Stat. 886), Public Law 100-212 (101 Stat. 1433), and Public Law 101-301 (104 Stat. 210), provides for alternative methods of resolving disputes relative to the title to certain allotments for which trust patents were issued to White Earth Chippewa Indians. Section 4(a) and 4(b) of the Act define circumstances by which the title to an allotment may have been taken or transferred through questionable means during the trust period. The Act authorizes the Secretary of the Interior to: (1) Identify the allotments or interest therein which were taken or transferred under identified circumstances, (2) determine the individuals entitled to compensation pursuant to the Act, and (3) ascertain the amount of compensation to which each such individual is entitled.

In addition, section 5(c) of the Act provides that the White Earth Band of Chippewa Indians shall be compensated for allotments which were granted to individuals who had died prior to the selection dates of their respective allotments.

Under Section 8(a) of the Act, the compensation for the taking or transfer of an allotment or interest is to be based on the fair market value of the allotment or interest therein as of the date of such taking or transfer, less any consideration actually received at the time. The compensation to be paid under the Act shall include interest compounded annually at 5 percent from the date of the questionable taking or transfer, until March 24, 1986, and at the general rate of interest earned by Department of the Interior funds thereafter. The Secretary is authorized to issue written notices of compensation determination for the allottees or heirs entitled thereto. Such notice shall describe the basis for the Secretary's determination, the process whereby such compensation was determined, the method of payment, and the applicable time limits for judicial review of the determination. Any individual who has already elected to file suit in the Federal District Court for the District of Minnesota to seek the recovery of title to an allotment or interest therein, or damages, is barred under section 6(c) from receiving any compensation under the Act.

The Secretary shall give written notice only to those allottees or heirs whose addresses can be ascertained by reasonable and diligent efforts; otherwise such notice shall be given by publication in the Federal Register.

The Secretary's administrative determination of the appropriate amount of compensation computed pursuant to the provisions of the Act may be judicially reviewed pursuant to the Administrative Procedure Act not later than one hundred and eighty days after the issuance of notice as aforesaid; after such time the Secretary's determination shall be conclusive and all judicial reviews shall be barred. Exclusive jurisdiction over any such action is hereby vested in the United States District Court for the District of Minnesota.

The Secretary of the Interior shall then make a diligent effort to locate each allottee or heir; however, if after two years from the date on which a determination becomes conclusive an allottee or heir cannot be located the Secretary of the Interior shall declare the amount owing to such allottee or heir forfeit.

This notice is published in the exercise of authority delegated by the Secretary of the Interior to the Assistant Secretary—Indian Affairs by 209 DM 8.

Dated: February 5, 2013.
Kevin K. Washburn,
Assistant Secretary—Indian Affairs.

Instruction Sheet

There are four (4) columns containing the following;

English Name: English names of the allottees and/or heir, including given name, middle initial, middle name, maiden name, married name, and other English names.

Ojibway Name: The name of the allottee and/or heir in Ojibway, the native language of the White Earth Band of the White Earth Band of Chippewa Indians. The names are shown with phonetic spellings.

Claim Number: Each questionable taking or transfer has been assigned a 10, 11 or 12 Character Issue Number. In every instance, the first six characters F53408, are identical and denote the Midwest Regional Office, Minnesota Agency and White Earth Indian Reservation. The last four, five or six characters identify the specific taking or transfer.

Heirship Level: All allottees and/or heirs will be assigned a one to eight character heirship level. This entry is a combination of alphabet and numeral characteristics define each undivided interest inherited.

If you wish further information about allotments or interest therein which are contained in this list, call or write the WELSA Project office in care of the Bureau of Indian Affairs. The address and telephone number are indicated in the FOR FURTHER INFORMATION CONTACT section of this document. Be sure to include the complete Issue Number in any correspondence with the Bureau of Indian Affairs.

Notice to Individuals Entitled to Compensation Determination Under the White Earth Reservation Land Settlement Act of 1985

English name | Ojibway name | Issue No. | Heirship
Bellanger-Knorr, Laurie Kay | None | F5340800003 | S3
Benford, Paulein | None | F534082135 | B1D
Brown, Gerda Herta | None | F534080320 | A
Bush, Jr., Charles Eugene/John | None | F534082074 | A1A1C
Spadino, Ernest Ryan Butler | None | F534080852 | A5A3E
Spadino, Ernest Ryan Butler | None | F534080852 | A1C5
Spadino, Ernest Ryan Butler | None | F534080852 | A1G
Spadino, Ernest Ryan Butler | None | F534080852 | A5A7
Christianson, Renee Jeanette | None | F534080436 | A26D6
Christianson, Renee Jeanette | None | F534080436A | A26D6
Christianson, Renee Jeanette | None | F534080436B | A26D6
Croud, Kim Laurie Buckanaga | None | F534080337 | D6B
Dalve, Richard Dean | None | F534080591 | G4
Dalve, Richard Dean | None | F534080591 | A6D
Dalve, Richard Dean | None | F534080591 | B4D
Dalve, Richard Dean | None | F534080591 | D5D
Dalve, Richard Dean | None | F534080591 | A1D4
Dalve, Richard Dean | None | F534080591 | A3E4
Dalve, Richard Dean | None | F534080591 | A3A4D
Dalve, Richard Dean | None | F534080591 | D1D4
Estey, Charles Edsel | None | F534080891 | A1F22
Estey, Denise Claire Bond | None | F534080891 | A1F21
Fox, James | None | F534081226 | A1A
Fox, James | None | F534081226 | A3
Fox, James | None | F534081226 | A11A1
Fox, James | None | F534081226 | A6A1
Fox, James | None | F534081226 | A4A
Fox, James | None | F534081226 | A1B1
Fox, James | None | F534081226 | A11A2A
Fox, James | None | F534081226 | A6A2A
Gunino, Claudio Godinez | None | F534081265 | D3A
Gunino, Cladio Godinez | None | F534081278B | H1D3A
Hafner, Michael William | None | F534080372 | A20
Havron, David | None | F534082115 | A3H
Havron, David | None | F534082115A | A3H
Havron, David | None | F534082106 | C1C8
Havron, David | None | F534080996 | A3A3H
Havron, David | None | F534080996A | A3A3H
Volz, Tammy Hight | None | F534081010 | B8B
Volz, Tammy Hight | None | F534081010A | B8B
Hill, Robert Dean | None | F534081211 | C11
Hill, Robert Dean | None | F534081211 | L
Kegg, Darren Dean | None | F534081786 | A2B5
Kegg, Darren Dean | None | F534081786 | A3B2E
Kegg, Darren Dean | None | F534081786 | C2E
Kegg, Darren Dean | None | F534081786 | D2B5
Kegg, Darren Dean | None | F534081786 | A6Q
Kegg, Darren Dean | None | F534081786 | D5Q
Kegg, Darren Dean | None | F534081786 | A3E17
Laframboise, Antoine Kevin | None | F534081015 | A1C1Q4
Laframboise, Antoine Kevin | None | F534081015 | A1D1A17D
Laframboise, Lyle E | None | F534081015 | A1C1Q1
Laframboise, Lyle E | None | F534081015 | A1D1A17A
Madison, Anthony Garrett | None | F534080969 | K7
Madison, Anthony Garrett | None | F534080969 | G4G
McGee, Darlene Kaye | None | F534080600 | A4A2
McGee, Darlene Kaye | None | F534080600 | A4C
McGee, Darlene Kaye | None | F534080600 | A2G
McGee, Darlene Kaye | None | F534080600A | A4A2
McGee, Darlene Kaye | None | F534080600A | A4C
McGee, Darlene Kaye | None | F534080600A | A2G
Patrick, Alfred Darren | None | F534080790 | L2
Patrick, Alfred Darren | None | F534080790A | L2
Peabody, Rebecca Beatrice | None | F534080891 | A1F11C
Persinger, Lincoln Lynn | None | F534081226 | A1D6
Persinger, Lincoln Lynn | None | F534081226 | A6A4F
Persinger, Lincoln Lynn | None | F534081226 | A7F
Persinger, Lincoln Lynn | None | F534081226 | A11A4F
Persinger, Lincoln Lynn | None | F534081226 | A4C6
Persinger, Lincoln Lynn | None | F534081226 | A11A2C6
Persinger, Lincoln Lynn | None | F534081226 | A6A2C6
Persinger, Lincoln Lynn | None | F534081226 | A1B3F
Peterson, Wendy Lou | None | F534080443 | D1B2
Peterson, Wendy Lou | None | F534080443A | D1B2
Quarles, Gary Duane | None | F534081872 | I4A
Quarles, Gary Duane | None | F534081872 | I1A1
Roberts, Tracy | None | F534081202 | A1A2C2
Roberts, Tracy | None | F534081202 | B1A1B3B
Roberts, Tracy | None | F534081202 | A1A2A8
Roberts, Tracy | None | F534081202 | B1A1B1H
Roberts, Tracy | None | F534081202A | A1A2C2
Roberts, Tracy | None | F534081202A | B1A1B3B
Roberts, Tracy | None | F534081202A | A1A2A8
Roberts, Tracy | None | F534081202A | B1A1B1H
Shaugobay, Janice Marie | None | F534081270 | A2B16D
Shaugobay, Janice Marie | None | F534081270 | A2B18
Shaugobay, Janice Marie | None | F534081270A | A2B16D
Shaugobay, Janice Marie | None | F534081270A | A2B18
Shaugobay, Ruth Ann | None | F53481270 | A2B16C
Shaugobay, Ruth Ann | None | F53481270A | A2B16C
Simmons, Muriel Susan | None | F534080053 | B3C
Simmons, Muriel Susan | None | F534080043 | F2C
Simmons, Muriel Susan | None | F534080043 | E1B2C
Simmons, Muriel Susan | None | F534080043 | E4B3
Simmons, Muriel Susan | None | F534080043 | B2B3
Swanson, Jr., Richard D | None | F534080834 | A7A
Thomas, John Charles | None | F534080517 | B6C1A
Thomas, John Charles | None | F534080123I | B1C3A
Thomas, John Charles | None | F534080123I | B1D1A
Thomas, John Charles | None | F534080123I | F3A1
Thomas, John Charles | None | F534080123I | G1A
Thomas, John Charles | None | F534080123I | A4A1
Thomas, John Charles | None | F534080123I | A3C1A

[FR Doc. 2013-03457 Filed 2-13-13; 8:45 am]

BILLING CODE 4310-W7-P